NATIONAL CREDIT UNION ADMINISTRATION

Sunshine Act; Notice of Agency Meeting

Time and Date: 10 a.m., Thursday, February 26, 2009.

Place: Board Room, 7th Floor, Room 7047, 1775 Duke Street, Alexandria, VA 22314-3428.

Status: Open.

Matters to be Considered: 1. Proposed Rule—Section 701.6 of NCUA's Rules and Regulations, Operating Fee Calculation.

2. Final Rule—Section 740.4 of NCUA's Rules and Regulations, Requirements for the Official Sign.

3. Insurance Fund Report.

Recess: 11 a.m.

Time and Date: 11:15 a.m., Thursday, February 26, 2009.

Place: Board Room, 7th Floor, Room 7047, 1775 Duke Street, Alexandria, VA 22314-3428.

Status: Closed.

Matters to be Considered: 1. Administrative Action under Section 208 of the Federal Credit Union Act. Closed pursuant to Exemptions (8), (9)(A)(ii), and (9)(B).

2. Consideration of Supervisory Activities (2). Closed pursuant to Exemptions (8) and (9)(A)(ii).

3. Personnel (2). Closed Pursuant to Exemptions (2) and (6).

FOR FURTHER INFORMATION CONTACT: Mary Rupp, Secretary of the Board, Telephone: 703-518-6304.

Mary Rupp,
Board Secretary.

[FR Doc. E9-3943 Filed 2-19-09; 4:15 pm]

BILLING CODE 7535-01-P